DEPARTMENT OF THE INTERIOR

Minerals Management Service

Notice on Outer Continental Shelf Oil and Gas Lease Sales

AGENCY: Minerals Management Service, Interior.

ACTION: List of restricted joint bidders.

SUMMARY: Pursuant to the authority vested in the Director of the Minerals Management Service by the joint bidding provisions of 30 CFR 256.41, each entity within one of the following groups shall be restricted from bidding with any entity in any other of the following groups at Outer Continental Shelf oil and gas lease sales to be held during the bidding period May 1, 2000, through October 31, 2000. The List of Restricted Joint Bidders published October 18, 1999, in the Federal Register at 64 FR 56215 covered the period November 1, 1999, through April 30, 2000.

Group I: Exxon Mobil Corporation; and ExxonMobil Exploration Company.

Group II: Shell Oil Co.; Shell Offshore Inc.; SWEPILP; Shell Frontier Oil & Gas Inc.; Shell Consolidated Energy Resources Inc.; Shell Land & Energy Company; Shell Onshore Ventures Inc.; Shell Deepwater Development Inc.; Shell Deepwater Production Inc.; and Shell Offshore Properties and Capital Inc.

Group III: BP Exploration & Oil Inc.; BP Exploration (Alaska) Inc.; and Amoco Production Company.

Dated: March 24, 2000.
Thomas R. Kitsos,
Director, Minerals Management Service.

[FR Doc. 00-7869 Filed 3-29-00; 8:45 am]

BILLING CODE 4310-MR-M